DEPARTMENT OF THE INTERIOR

Bureau of Indian Affairs

Final Environmental Impact Statement for the Proposed Riverton Dome Coal Bed Natural Gas and Conventional Gas Development, Wind River Indian Reservation, Fremont County, WY

AGENCY: Bureau of Indian Affairs, Interior.

ACTION: Notice.

SUMMARY: This notice advises the public that the Bureau of Indian Affairs (BIA), in cooperation with the Joint Business Council of the Eastern Shoshone and Northern Arapaho Tribes, Bureau of Land Management and U.S. Environmental Protection Agency (EPA), intends to file a Final Environmental Impact Statement (FEIS) with EPA for the proposed coal bed natural gas and conventional gas development project, and that the FEIS is now available to the public.

DATES: The Record of Decision on the proposed action will be issued on or after October 21, 2008. Any comments on the FEIS must arrive by October 20, 2008.

ADDRESSES: You may mail or hand carry written comments to Ray Nation, Deputy Superintendent, Trust Services, Bureau of Indian Affairs, Wind River Agency, First and Washakie Streets, Fort Washakie, Wyoming 82514.

Paper or CD copies of the FEIS are available at the above address and at the Bureau of Land Management, Lander Field Office, 1335 Main Street, Lander, Wyoming 82420.

FOR FURTHER INFORMATION CONTACT: Ray Nation, (307) 332-3718.

SUPPLEMENTARY INFORMATION: The Riverton Dome Project Area (RDPA) is located on the southeast corner of the Wind River Indian Reservation in Township 1S, Range 4E, Sections 13, 14, 23, 24, 25, 26, 35, and 36; Township 2S, Range 4E, Sections 1, 2, 11 and 12; Township 1S, Range 5E, Sections 17, 18, 19, 20, 29, 30, 31 and 32; and Township 2S, Range 5E, Sections 5, 6, 7, and 8, in Fremont County, Wyoming, approximately 5 miles southeast of the city of Riverton, Wyoming. The Project Area is approximately 13,804 acres in size, of which 12,656 acres of surface and minerals belong to the Eastern Shoshone and Northern Arapaho Tribes and 1,148 acres of surface and minerals are privately owned.

The FEIS analyzes three alternatives: the proposed action (Alternative A), existing leases (Alternative B) and no action (Alternative C). The BIA has chosen Alternative B, rather than the proposed action, as the preferred alternative for this project.

Alternative B consists of developing from 70 coal bed natural gas (CBNG) wells at 80-acre spacing to 151 CBNG wells at 40-acre spacing. The initial spacing for each new CBNG well drilled is 80-acre spacing. Forty-acre spacing would only be utilized if 80-acre spacing is not sufficient to efficiently produce the CBNG from the formation. The assumption that all CBNG wells would be drilled at 40-acre spacing was used to evaluate the maximum potential disturbance, produced water production, roads, pipelines, and compression needed for development. The actual number of CBNG wells to be drilled under the Alternative B is anticipated to be less than the maximum of 151 wells. In addition, up to 20 conventional gas wells could be drilled under Alternative B.

Alternative B would result in less than 57 percent of the initial surface disturbance anticipated under the proposed action and less than 55 percent of the long-term surface disturbance. The decrease in surface disturbance would result in fewer impacts to the natural resources within the RDPA. In addition, the selection of the Alternative B incorporates the implementation of various avoidance, minimization, and mitigation measures.

Public Comment Availability

Comments, including names and addresses of respondents, will be available for public review at the mailing address shown in the ADDRESSES section during regular business hours, 7:30 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority: This notice is published in accordance with section 1503.1 of the Council on Environmental Quality regulations (40 CFR Parts 1500 through 1508) implementing the procedural requirements of the National Environmental Policy Act of 1969, as amended (42 U.S.C. 4321 et seq. ), and the Department of Interior Manual (516 DM 1-6), and is in the exercise of authority delegated to the Assistant Secretary—Indian Affairs by 209 DM 8.1.

Dated: August 28, 2008.
George T. Skibine,
Acting Deputy Assistant Secretary for Policy and Economic Development.

[FR Doc. E8-21628 Filed 9-18-08; 8:45 am]

BILLING CODE 4310-W7-P